DEPARTMENT OF HOMELAND SECURITY

Coast Guard

33 CFR Part 117

[Docket No. USCG-2017-0644]

Drawbridge Operation Regulation; Willamette River at Portland, OR

AGENCY: Coast Guard, DHS.

ACTION: Notice of deviation from drawbridge regulation.

SUMMARY: The Coast Guard has issued a temporary deviation from the operating schedule that governs two Multnomah County bridges: Morrison Bridge, mile 12.8, and Hawthorne Bridge, mile 13.1, both crossing the Willamette River at Portland, OR. This deviation is necessary to accommodate the annual Portland Providence Bridge Pedal event. The deviation allows the bridges to remain in the closed-to-navigation position to allow safe roadway movement of event participants.

DATES: This deviation is effective from 6 a.m. to 12:15 p.m. on August 13, 2017.

ADDRESSES: The docket for this deviation, USCG-2017-0644 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: Multnomah County (bridge owner) has requested a temporary deviation from the operating schedule for the Morrison Bridge, mile 12.8, and Hawthorne Bridge, mile 13.1, both crossing the Willamette River at Portland, OR. The requested deviation is to accommodate the annual Bridge Pedal event. To facilitate this event, the draws of theses bridges will be maintained as follows: Morrison Bridge provides a vertical clearance of 69 feet in the closed-to-navigation position; and Hawthorne Bridge provides a vertical clearance of 49 feet in the closed-to-navigation position; all clearances are referenced to the vertical clearance above Columbia River Datum 0.0. The normal operating schedule for these bridges is 33 CFR 117.897. This deviation allows the Morrison Bridge, and the Hawthorne Bridge to remain in the closed-to-navigation position, and need not open for maritime traffic from 6 a.m. to 12:15 p.m. on August 13, 2017. Waterway usage on this part of the Willamette River includes vessels ranging from commercial tug and barge to small pleasure craft.

Vessels able to pass through the bridges in the closed-to-navigation position may do so at any time. The bridges will be able to open for emergencies, and there is no immediate alternate route for vessels to pass. The Coast Guard will inform the users of the waterway, through our Local and Broadcast Notices to Mariners, of the change in operating schedule for the bridges so that vessels can arrange their transits to minimize any impact caused by the temporary deviation.

In accordance with 33 CFR 117.35(e), the drawbridges must return to their regular operating schedules immediately at the end of the effective period of this temporary deviation. This deviation from the operating regulations is authorized under 33 CFR 117.35.

Dated: July 6, 2017.
Steven M. Fischer,
Bridge Administrator, Thirteenth Coast Guard District.

[FR Doc. 2017-14493 Filed 7-10-17; 8:45 am]

BILLING CODE 9110-04-P